POSTAL SERVICE

Notice of Intent To Prepare a Programmatic Environmental Assessment for Proposed Mobile Fueling Operations, Nationwide

AGENCY: Postal Service.

ACTION: Notice of intent to prepare a Programmatic Environmental Assessment.

SUMMARY: To comply with the requirements of the National Environmental Policy Act (NEPA), the Postal Service intends to prepare a Programmatic Environmental Assessment (PEA) for the use of mobile fueling contractors to fuel postal vehicles on-site at selected Postal Service facilities located throughout the United States. This PEA will evaluate the environmental impacts of the proposed action versus taking no action.

DATES: It is estimated that the Programmatic Environmental Assessment will be completed by August 1, 2010.

ADDRESSES: Interested parties may direct questions or requests for additional information to: Melinda Hulsey Edwards, Manager, Environmental Compliance and Risk Mitigation, Environmental Policy and Programs, U.S. Postal Service, 225 N. Humphries Blvd., Memphis, TN 38166-0865; (901) 747-7424.

SUPPLEMENTARY INFORMATION: Purpose. This notice concerns a proposed operational change for fueling postal delivery vehicles and the intent of the Postal Service, pursuant to the requirements of the National Environmental Policy Act (NEPA) of 1969, its implementing procedures at 39 CFR part 775, and the President's Council on Environmental Quality Regulations (40 CFR parts 1500-1508), to prepare a Programmatic Environmental Assessment to evaluate the environmental impacts of the proposed action versus taking “no action.”

Proposed Action. The Postal Service proposes to utilize mobile fueling contractors to fuel vehicles on site at selected postal facilities located throughout the United States. The program would focus on, but not be limited to, city and rural delivery units with 30 or more routes using vehicles owned by the Postal Service. Based on these criteria, it is anticipated that up to 1,100 sites may be eligible to convert to mobile fueling. Mobile fueling, also known as fleet fueling, wet fueling, or wet hosing, is the practice of filling fuel tanks of vehicles directly from tank trucks. In this scenario, mobile refueling contractors drive tank trucks onto Postal Service property to fuel parked delivery vehicles and drive the tank trucks off site when fueling is completed. At this time, the only alternative identified is the “no action” alternative of continuing to fuel delivery vehicles off-site at commercial gas stations.

Stanley F. Mires,
Chief Counsel, Legislative.

[FR Doc. 2010-14491 Filed 6-11-10; 4:15 pm]

BILLING CODE 7710-12-P